DEPARTMENT OF ENERGY

Federal Energy Regulatory Commission

Combined Notice of Filings #1

Take notice that the Commission received the following electric corporate filings:

Docket Numbers: EC25-81-000.

Applicants: PECO Energy Company, Calpine Mid Merit, LLC.

Description: Joint Application for Authorization Under Section 203 of the Federal Power Act of Calpine Mid Merit, LLC, et al.

Filed Date: 4/25/25.

Accession Number: 20250425-5287.

Comment Date: 5 p.m. ET 5/16/25.

Docket Numbers: EC25-82-000.

Applicants: Catalina Solar Lessee, LLC.

Description: Application for Authorization Under Section 203 of the Federal Power Act of Catalina Solar Lessee, LLC.

Filed Date: 4/25/25.

Accession Number: 20250425-5290.

Comment Date: 5 p.m. ET 5/16/25.

Docket Numbers: EC25-83-000.

Applicants: NextEra Energy Resources, LLC, New Wave Energy, LLC.

Description: Joint Application for Authorization Under Section 203 of the Federal Power Act of NextEra Energy Resources, LLC, et al.

Filed Date: 4/30/25.

Accession Number: 20250430-5671.

Comment Date: 5 p.m. ET 5/21/25.

Docket Numbers: EC25-84-000.

Applicants: Oregon Clean Energy, LLC, Indiana Michigan Power Company, AEP Oregon, LLC.

Description: Joint Application for Authorization Under Section 203 of the Federal Power Act of Oregon Clean Energy, LLC, et al.

Filed Date: 4/30/25.

Accession Number: 20250430-5674.

Comment Date: 5 p.m. ET 6/30/25.

Take notice that the Commission received the following electric rate filings:

Docket Numbers: ER19-842-004; ER24-134-003.

Applicants: Three Rivers District Energy, LLC, Energy Center Paxton LLC.

Description: Notice of Change in Status of Energy Center Paxton LLC, et al.

Filed Date: 4/25/25.

Accession Number: 20250425-5288.

Comment Date: 5 p.m. ET 5/16/25.

Docket Numbers: ER21-1755-013; ER23-1642-010; ER24-280-003; ER14-2500-021.

Applicants: Newark Energy Center, LLC, Hartree-Meadowlands Newark, LLC, Stored Solar J&WE, LLC, Hartree Partners, LP.

Description: Notice of Change in Status of Hartree Partners, LP, et al.

Filed Date: 4/30/25.

Accession Number: 20250430-5634.

Comment Date: 5 p.m. ET 5/21/25.

Docket Numbers: ER24-72-002; ER24-1276-003; ER24-1277-001.

Applicants: Aron Energy Prepay 36 LLC, Aron Energy Prepay 35 LLC, Aron Energy Prepay 29 LLC.

Description: Notice of Non-Material Change in Status of Aron Energy Prepay 29 LLC, et al.

Filed Date: 4/30/25.

Accession Number: 20250430-5639.

Comment Date: 5 p.m. ET 5/21/25.

Docket Numbers: ER24-762-003; ER25-1415-001.

Applicants: Lighthouse Arthur Kill, LLC, Elevate Renewables F7, LLC.

Description: Notice of Non-Material Change in Status of Elevate Renewables F7, LLC, et al.

Filed Date: 4/29/25.

Accession Number: 20250429-5368.

Comment Date: 5 p.m. ET 5/20/25.

Docket Numbers: ER24-2250-003.

Applicants: Aron Energy Prepay 42 LLC.

Description: Notice of Non-Material Change in Status of Aron Energy Prepay 42 LLC.

Filed Date: 4/30/25.

Accession Number: 20250430-5640.

Comment Date: 5 p.m. ET 5/21/25.

Docket Numbers: ER24-2560-001.

Applicants: Energy Prepay I, LLC.

Description: Notice of Change in Status of Energy Prepay I, LLC.

Filed Date: 4/29/25.

Accession Number: 20250429-5370.

Comment Date: 5 p.m. ET 5/20/25.

Docket Numbers: ER25-1176-002.

Applicants: Midcontinent Independent System Operator, Inc.

Description: Tariff Amendment: 2025-04-30_SA 4439 Deficiency Resp ATC-Copper Country Power Sub Orig FSA (J1814) to be effective 4/6/2025.

Filed Date: 4/30/25.

Accession Number: 20250430-5495.

Comment Date: 5 p.m. ET 5/21/25.

Docket Numbers: ER25-2085-000.

Applicants: Otter Tail Power Company.

Description: Request for Approval of Transmission Rate Incentives of Otter Tail Power Company.

Filed Date: 4/29/25.

Accession Number: 20250429-5338.

Comment Date: 5 p.m. ET 5/20/25.

Docket Numbers: ER25-2104-000.

Applicants: Wheelabrator Baltimore, L.P.

Description: Compliance filing: Notice of Non-Material Change in Status and Revised Market-Based Rate Tariff to be effective 5/1/2025.

Filed Date: 4/30/25.

Accession Number: 20250430-5449.

Comment Date: 5 p.m. ET 5/21/25.

Docket Numbers: ER25-2111-000.

Applicants: Wheelabrator Falls Inc.

Description: Compliance filing: Notice of Non-Material Change in Status and Revised Market-Based Rate Tariff to be effective 5/1/2025.

Filed Date: 4/30/25.

Accession Number: 20250430-5416.

Comment Date: 5 p.m. ET 5/21/25.

Docket Numbers: ER25-2112-000.

Applicants: Wheelabrator Millbury Inc.

Description: Compliance filing: Notice of Non-Material Change in Status and Revised Market-Based Rate Tariff to be effective 5/1/2025.

Filed Date: 4/30/25.

Accession Number: 20250430-5421.

Comment Date: 5 p.m. ET 5/21/25.

Docket Numbers: ER25-2113-000.

Applicants: Wheelabrator North Andover Inc.

Description: Compliance filing: Notice of Non-Material Change in Status and Revised Market-Based Rate Tariff to be effective 5/1/2025.

Filed Date: 4/30/25.

Accession Number: 20250430-5424.

Comment Date: 5 p.m. ET 5/21/25.

Docket Numbers: ER25-2114-000.

Applicants: Wheelabrator Portsmouth Inc.

Description: Compliance filing: Notice of Non-Material Change in Status and Revised Market-Based Rate Tariff to be effective 5/1/2025.

Filed Date: 4/30/25.

Accession Number: 20250430-5427.

Comment Date: 5 p.m. ET 5/21/25.

Docket Numbers: ER25-2115-000.

Applicants: Wheelabrator Saugus Inc.

Description: Compliance filing: Notice of Non-Material Change in Status and Revised Market-Based Rate Tariff to be effective 5/1/2025.

Filed Date: 4/30/25.

Accession Number: 20250430-5428.

Comment Date: 5 p.m. ET 5/21/25.

Docket Numbers: ER25-2116-000.

Applicants: Wheelabrator Westchester, L.P.

Description: Compliance filing: Notice of Non-Material Change in Status and Revised Market-Based Rate Tariff to be effective 5/1/2025.

Filed Date: 4/30/25.

Accession Number: 20250430-5432.

Comment Date: 5 p.m. ET 5/21/25.

Docket Numbers: ER25-2117-000.

Applicants: Pacific Gas and Electric Company.

Description: § 205(d) Rate Filing: WDT SA 275: City and County of San Francisco Q1 2025 Filing to be effective 3/31/2025.

Filed Date: 4/30/25.

Accession Number: 20250430-5439.

Comment Date: 5 p.m. ET 5/21/25.

Docket Numbers: ER25-2118-000.

Applicants: Bolt Energy Marketing, LLC.

Description: § 205(d) Rate Filing: Notice of Change in Circumstances and Market-Based Rate Tariff Revisions to be effective 5/1/2025.

Filed Date: 4/30/25.

Accession Number: 20250430-5455.

Comment Date: 5 p.m. ET 5/21/25.

Docket Numbers: ER25-2119-000.

Applicants: Columbia Energy LLC.

Description: § 205(d) Rate Filing: Notice of Change in Circumstances and Market-Based Rate Tariff Revisions to be effective 5/1/2025.

Filed Date: 4/30/25.

Accession Number: 20250430-5459.

Comment Date: 5 p.m. ET 5/21/25.

Docket Numbers: ER25-2120-000.

Applicants: Enerwise Global Technologies, LLC.

Description: § 205(d) Rate Filing: Notice of Change in Circumstances and Market-Based Rate Tariff Revisions to be effective 5/1/2025.

Filed Date: 4/30/25.

Accession Number: 20250430-5462.

Comment Date: 5 p.m. ET 5/21/25.

Docket Numbers: ER25-2121-000.

Applicants: LS Power Marketing, LLC.

Description: § 205(d) Rate Filing: Notice of Change in Circumstances and Market-Based Rate Tariff Revisions to be effective 5/1/2025.

Filed Date: 4/30/25.

Accession Number: 20250430-5464.

Comment Date: 5 p.m. ET 5/21/25.

Docket Numbers: ER25-2122-000.

Applicants: REV Energy Marketing, LLC.

Description: § 205(d) Rate Filing: Notice of Change in Circumstances and Market-Based Rate Tariff Revisions to be effective 5/1/2025.

Filed Date: 4/30/25.

Accession Number: 20250430-5475.

Comment Date: 5 p.m. ET 5/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 1, 2025.
Carlos D. Clay,
Deputy Secretary.

[FR Doc. 2025-07955 Filed 5-6-25; 8:45 am]

BILLING CODE 6717-01-P